DEPARTMENT OF TRANSPORTATION

National Highway Traffic Safety Administration

[U.S. DOT Docket Number NHTSA-2011-0169]

Reports, Forms, and Record Keeping Requirements

AGENCY: National Highway Traffic Safety Administration (NHTSA), Department of Transportation.

ACTION: Notice and request for comment on obtaining vehicle information for the general public; Correction.

SUMMARY: Before a Federal agency can collect certain information from the public, it must receive approval from the Office of Management and Budget (OMB). In compliance with the Paperwork Reduction Act of 1995 (44 U.S.C. 3501 et seq.), this notice announces that the Information Collection Request (ICR) abstracted below is being forwarded to OMB for review and comments. A Federal Register notice (77 FR 11621) with a 60-day comment period soliciting comments on the proposed information collection for the agency's new consumer Vehicle-child restraint system (CRS) Fit program and consolidation of existing collection of vehicle safety information (OMB Control Number 2127-0629) was published on February 27, 2012. The February 2012 “Request for comments” notice described a new collection of information for which NHTSA intend to seek OMB approval concerning recommendations from vehicle manufacturers regarding child restraint systems (CRSs) that fit in their individual vehicles. Furthermore, NHTSA planned to combine the new information collection with an existing collection for obtaining vehicle information for consumer information purposes. The agency received comments from the public on the new and existing collection of information. However, since the agency has not published its final decision on the new consumer information program, it is not able at this time to address comments received from the public regarding the new provisions for the collection of information on vehicle-CRS matchups from vehicle manufacturers. Thus, this “Correction” notice now focuses on renewing the existing collection of vehicle safety information and only addresses comments received from that information collection. Comments pertaining to the new Vehicle-CRS Fit Program will be addressed at a later time in a new submission, when the agency publishes its final decision on the new program.

DATES: Comments must be received on or before April 12, 2013.

FOR FURTHER INFORMATION CONTACT: Complete copies of each request for collection of information may be obtained at no charge from Johanna Lowrie, U.S. Department of Transportation, NHTSA, Room W43-410, 1200 New Jersey Ave SE., Washington, DC 20590. Ms. Lowrie's telephone number is (202) 366-5269. Please identify the relevant collection of information by referring to its OMB Control Number.

SUPPLEMENTARY INFORMATION:

National Highway Traffic Safety Administration

Title: Obtaining Vehicle Information for the General Public.

OMB Control Number: 2127-0629.

Type of Request: Information Collection Renewal.

Affected Public: Manufacturers that sell motor vehicles in the United States that have a Gross Vehicle Weight Rating (GVWR) of 10,000 pounds or less.

Abstract: NHTSA's mission is to save lives, prevent injury, and reduce motor vehicle crashes. Consumer information programs are an important tool for improving vehicle safety through market forces. For over 30 years, under its New Car Assessment Program, NHTSA has been providing consumers with vehicle safety information such as frontal and side crash results, rollover propensity, and the availability of a wide array of safety features provided on each vehicle model. In addition, the agency has been using this safety feature information when responding to consumer inquiries and analyzing rulemaking petitions that requested the agency to mandate certain safety features.

NHTSA has another information collection to obtain data related to motor vehicle compliance with the agency's Federal motor vehicle safety standards. Although the consumer information collection data is distinct and unique from the compliance data, respondents to both collections are the same. Thus, the consumer information collection is closely coordinated with the compliance collection to enable responders to assemble the data more efficiently. The burden is further made easier by sending out electronic files to the respondents in which the data is entered and electronically returned to the agency.

The consumer information collected will be used on the agency's www.safercar.gov Web site, in the “Purchasing with Safety in Mind: What to look for when buying a new vehicle” and “Buying a Safer Car for Child Passengers” brochures, in other consumer publications, as well as for internal agency analyses and response to consumer inquiries.

Estimated Total Annual Burden: 800 hours.

ADDRESSES: Respondents may send comments, within 30 days, regarding the burden estimate, including suggestions for reducing the burden, to the Office of Information and Regulatory Affairs, Office of Management and Budget, 725 17th Street NW., Washington, DC 20503. Attention NHTSA Desk Officer.

Comments are invited on whether the existing collection of information is still necessary for the proper performance of the functions of the agency, including whether the information will have practical utility; the accuracy of the agency's estimate of the burden of the existing information collection; ways to enhance the quality, utility and clarity of the information to be collected; and ways to minimize the burden of the collection of information on respondents, including the use of automated collection techniques or other forms of information technology.

Comments to OMB are most effective if OMB receives them within 30 days of publication.

Authority: 44 U.S.C. 3506(c); delegation of authority at 49 CFR 1.50

Issued on: March 7, 2013.
Christopher J. Bonanti,
Associate Administrator for Rulemaking.

[FR Doc. 2013-05750 Filed 3-12-13; 8:45 am]

BILLING CODE 4910-59-P